DEPARTMENT OF JUSTICE

Drug Enforcement Administration

[Docket No. DEA-392]

Importer of Controlled Substances Application: Cambridge Isotope Laboratories, Inc.

ACTION: Notice of application.

DATES: Registered bulk manufacturers of the affected basic classes, and applicants therefore, may file written comments on or objections to the issuance of the proposed registration on or before November 6, 2019. Such persons may also file a written request for a hearing on the application on or before November 6, 2019.

ADDRESSES: Written comments should be sent to: Drug Enforcement Administration, Attention: DEA Federal Register Representative/DPW, 8701 Morrissette Drive, Springfield, Virginia 22152. All requests for a hearing must be sent to: Drug Enforcement Administration, Attn: Administrator, 8701 Morrissette Drive, Springfield, Virginia 22152. All requests for a hearing should also be sent to: (1) Drug Enforcement Administration, Attn: Hearing Clerk/OALJ, 8701 Morrissette Drive, Springfield, Virginia 22152; and (2) Drug Enforcement Administration, Attn: DEA Federal Register Representative/DPW, 8701 Morrissette Drive, Springfield, Virginia 22152.

SUPPLEMENTARY INFORMATION: In accordance with 21 CFR 1301.34(a), this is notice that on July 9, 2019, Cambridge Isotope Laboratories, 50 Frontage Road, Andover, Massachusetts 01810 applied to be registered as an importer of the following basic classes of controlled substances:

Controlled substance | Drug code | Schedule
Gamma Hydroxybutyric Acid | 2010 | I
Tetrahydrocannabinols | 7370 | I
Morphine | 9300 | II

The company plans to import the listed controlled substances for analytical research, testing and clinical trials.

Dated: September 27, 2019.
Thomas W. Prevoznik,
Acting Assistant Administrator, Deputy Assistant Administrator.

[FR Doc. 2019-21829 Filed 10-4-19; 8:45 am]

BILLING CODE 4410-09-P